DEPARTMENT OF THE INTERIOR

National Park Service

[NPS-WASO-NAGPRA-NPS0032391; PPWOCRADN0-PCU00RP14.R50000]

Notice of Inventory Completion: New York State Office of Parks, Recreation, and Historic Preservation, Waterford, NY

AGENCY: National Park Service, Interior.

ACTION: Notice.

SUMMARY: The New York State Office of Parks, Recreation, and Historic Preservation (NYSOPRHP) has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the NYSOPRHP. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the NYSOPRHP at the address in this notice by September 10, 2021.

FOR FURTHER INFORMATION CONTACT: Andrew Farry (Scientist/Archaeology), Division for Historic Preservation, P.O. Box 189, Waterford, NY 12188-0189, telephone (518) 268-2185, email andrew.farry@parks.ny.gov.

SUPPLEMENTARY INFORMATION: Notice is here given in accordance with the Native American Graves Protection and Repatriation Act (NAGPRA), 25 U.S.C. 3003, of the completion of an inventory of human remains under the control of the New York State Office of Parks, Recreation, and Historic Preservation, Waterford, NY. The human remains were removed from the Old Arsenal/Arsenal Hill Site, Canandaigua, Ontario County and the Ball Farm/Totiakton Site, Mendon, Monroe County, NY.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the New York State Office of Parks, Recreation, and Historic Preservation professional staff in consultation with representatives of the Cayuga Nation; Seneca Nation of Indians [previously listed as Seneca Nation of New York]; Seneca-Cayuga Nation [previously listed Seneca-Cayuga Tribe of Oklahoma]; Tonawanda Band of Seneca [previously listed as Tonawanda Band of Seneca Indians of New York]; and the Tuscarora Nation (hereafter referred to as “The Consulted Tribes”).

History and Description of the Remains

In the late nineteenth century, human remains representing, at minimum, two individuals were removed from the Old Arsenal/Arsenal Hill Site in Ontario County, NY. The human remains were excavated by William M. Locke and acquired by William Pryor Letchworth. The Letchworth collection was included in the gift of the Glen Iris Estate to New York State in 1907. The human remains include a skull belonging to an adult of unknown sex (LE.2010.7) and partial cranium vault fragments belonging to an adult of unknown sex (LE.2010.8). No known individuals were identified. No associated funerary objects are present.

Based on the known context of recovery and a 2002 archeological and osteological assessment, the human remains predate A.D. 1400 and are connected to earlier Owasco/Seneca. The provenience of the human remains is consistent with the historically documented territory of the Seneca. Consultation has further established the cultural affiliation of these human remains with the Seneca Nation of Indians [previously listed as Seneca Nation of New York] and the Tonawanda Band of Seneca [previously listed as Tonawanda Band of Seneca Indians of New York].

In the late nineteenth century, human remains representing, at minimum, one individual were removed from the Ball Farm/Totiakton Site, Monroe County, NY. The human remains were excavated by William M. Locke and acquired by William Pryor Letchworth. The Letchworth collection was included in the gift of the Glen Iris Estate to New York State in 1907. The human remains include the mandible, teeth, and cranial fragments belonging to a sub-adult aged 6-12 of unknown sex. No known individual was identified. No associated funerary objects are present.

Based on the known context of recovery and a 2002 archaeological and osteological assessment, the human remains date to ca. A.D. 1669-1687 and are connected to the earlier Seneca. Ca. A.D. 1669-1687, Totiakton was a Seneca village located along Honeoye Creek in the Town of Mendon, Monroe County, NY. The provenience of the human remains is consistent with the historically documented territory of the Seneca. Consultation has further established the cultural affiliation of these human remains with the Seneca Nation of Indians [previously listed as Seneca Nation of New York] and the Tonawanda Band of Seneca [previously listed as Tonawanda Band of Seneca Indians of New York].

Determinations Made by the New York State Office of Parks, Recreation, and Historic Preservation

Officials of the New York State Office of Parks, Recreation, and Historic Preservation have determined that:

• Pursuant to 25 U.S.C. 3001(9), the human remains described in this notice represent the physical remains of three individuals of Native American ancestry.

• Pursuant to 25 U.S.C. 3001(2), there is a relationship of shared group identity that can be reasonably traced between the Native American human remains and the Seneca Nation of Indians [previously listed as Seneca Nation of New York] and the Tonawanda Band of Seneca [previously listed as Tonawanda Band of Seneca Indians of New York] (hereafter referred to as “The Tribes”).

Additional Requestors and Disposition

Lineal descendants or representatives of any Indian Tribe or Native Hawaiian organization not identified in this notice that wish to request transfer of control of these human remains should submit a written request with information in support of the request to Division for Historic Preservation, P.O. Box 189, Waterford, NY 12188-0189, telephone (518) 268-2185, email andrew.farry@parks.ny.gov, by September 10, 2021. After that date, if no additional requestors have come forward, transfer of control of the human remains to The Tribes may proceed.

The New York State Office of Parks, Recreation, and Historic Preservation is responsible for notifying The Consulted Tribes that this notice has been published.

Dated: July 28, 2021.
Melanie O'Brien,
Manager, National NAGPRA Program.

[FR Doc. 2021-17065 Filed 8-10-21; 8:45 am]

BILLING CODE 4312-52-P